DEPARTMENT OF COMMERCE

International Trade Administration

[A-588-835]

Oil Country Tubular Goods From Japan: Extension of Time Limit for Final Results of Antidumping Duty Administrative Review

AGENCY: Import Administration, International Trade Administration, Department of Commerce.

ACTION: Notice of extension of time limit for final results of administrative review.

EFFECTIVE DATE: January 12, 2001.

FOR FURTHER INFORMATION CONTACT: Samantha Denenberg or Mark Hoadley, AD/CVD Enforcement, Import Administration, International Trade Administration, U.S. Department of Commerce, 14th Street and Constitution Avenue, NW., Washington DC 20230; telephone: (202) 482-1386 or (202) 482-0666, respectively.

The Applicable Statute

Unless otherwise indicated, all citations to the statute are references to the provisions effective January 1, 1995, the effective date of the amendments made to the Tariff Act of 1930 (the Act) by the Uruguay Round Agreements Act. In addition, unless otherwise indicated, all citations to the Departments's regulations are to the current regulations, codified at 19 CFR part 351 (1999).

Background

On August 26, 1999, the Department of Commerce (the Department) received a request from Dril-Quip Inc. (Dril-Quip) for an administrative review of the following parties: Hallmark Tubulars Ltd. (Hallmark), Itochu Corp. (Itochu), Itochu Project Management Corp. (IPM), and Nippon Steel Corp. (Nippon) regarding the antidumping duty order on oil country tubular goods from Japan. On August 31, 1999, petitioner and Sumitomo Metal Industries, Ltd. (SMI) requested that the Department conduct an administrative review of SMI. On October 1, 1999, the Department published a notice of initiation of this administrative review, covering the period of August 1, 1998 through July 31, 1999 (64 FR 53318). On September 11, 2000, the Department published its preliminary results of this administrative review (65 FR 54838).

Extension of Time Limits for Final Results

Because of the complexities enumerated in the Memorandum from Barbara E. Tillman to Joseph A. Spetrini, Extension of Time Limit for the Administrative Review of Oil Country Tubular Goods from Japan, dated January 3, 2001, it is not practical to complete this review within the time limits mandated by section 751(a)(3)(A) of the Act.

Therefore, in accordance with section 751(a)(3)(A) of the Act, the Department is extending the time limit for the final results of review from January 9, 2001 to February 8, 2001.

Dated: January 3, 2001.
Joseph A. Spetrini,
Deputy Assistant Secretary, AD/CVD Enforcement Group III.

[FR Doc. 01-976 Filed 1-11-01; 8:45 am]

BILLING CODE 3510-DS-P